DEPARTMENT OF TRANSPORTATION

Pipeline and Hazardous Materials Safety Administration

[Docket No. PHMSA-2021-0086]

Pipeline Safety: Pipeline Transportation; Hydrogen and Emerging Fuels Research and Development (R&D) Public Meeting and Forum

AGENCY: Pipeline and Hazardous Materials Safety Administration (PHMSA), DOT.

ACTION: Notice of virtual public meeting and forum.

SUMMARY: This notice announces a virtual public meeting and forum titled: “Pipeline Transportation and Emerging Fuels R&D Public Meeting and Forum.” The public meeting and forum will serve as an opportunity for pipeline stakeholders to discuss research gaps and challenges in pipeline safety and emerging fuels, including hydrogen transportation. Furthermore, it will also serve as a venue for PHMSA, public interest groups, industry, academia, intergovernmental partners, and the public to collaborate on PHMSA's future R&D agenda.

DATES: The Pipeline Transportation and Emerging Fuels R&D Public Meeting and Forum will be held November 30, 2021, through December 2, 2021. Members of the public who wish to attend the public meeting and forum must register between October 15, 2021, and November 15, 2021. Individuals requiring accommodations, such as sign language interpretation or other aids, are asked to notify PHMSA no later than November 1, 2021. Individuals will have an opportunity on a first come first serve basis to sign up to participate in specific workgroups between October 15, 2021, and November 15, 2021.

ADDRESSES: This public meeting and forum will be held virtually. The agenda and instructions on how to attend virtually will be published once they are finalized on the following public meeting registration page at: https://primis.phmsa.dot.gov/meetings/MtgHome.mtg?mtg=153. Presentations will be available on the meeting website and on the E-gov website, https://regulations.gov, at docket number PHMSA-2021-0086, no later than 30 days following the meeting. You may submit comments, identified by Docket No. PHMSA-2021-0086, by any of the following methods:

• E-Gov Web: http://www.regulations.gov. This site allows the public to enter comments on any Federal Register notice issued by any agency. Follow the online instructions for submitting comments.

• Mail: Docket Management System: U.S. Department of Transportation (DOT), 1200 New Jersey Avenue SE, West Building Ground Floor, Room W12-140, Washington, DC 20590-0001.

• Hand Delivery: DOT Docket Management System: West Building Ground Floor, Room W12-140, 1200 New Jersey Avenue SE, between 9:00 a.m. and 5:00 p.m. ET, Monday through Friday, except Federal holidays.

• Fax: 202-493-2251.

• Instructions: Identify the Docket No. PHMSA-2021-0086, at the beginning of your comments. If you submit your comments by mail, please submit two copies. If you wish to receive confirmation that PHMSA received your comments, you must include a self-addressed stamped postcard. Internet users may submit comments at: http://www.regulations.gov.

• Note: All comments received are posted without edits to http://www.regulations.gov, including any personal information provided. Please see the Privacy Act heading below.

• Confidential Business Information: Confidential Business Information (CBI) is commercial or financial information that is both customarily and actually treated as private by its owner. Under the Freedom of Information Act (5 U.S.C. 552), CBI is exempt from public disclosure. If your comments in response to this notice contain commercial or financial information that is customarily treated as private, that you actually treat as private, and that is relevant or responsive to this notice, it is important that you clearly designate the submitted comments as CBI. Pursuant to 49 Code of Federal Regulations (CFR) 190.343, you may ask PHMSA to provide confidential treatment to information you give to the agency by taking the following steps: (1) Mark each page of the original document submission containing CBI as “Confidential;” (2) send PHMSA a copy of the original document with the CBI deleted along with the original, unaltered document; and (3) explain why the information you are submitting is CBI. Submissions containing CBI should be sent to Nathan Schoenkin, 1200 New Jersey Avenue SE, DOT: PHMSA—PHP-80, Washington, DC 20590-0001. Any commentary PHMSA receives that is not specifically designated as CBI will be placed in the public docket.

• Privacy Act: DOT may solicit comments from the public regarding certain general notices. DOT posts these comments, without edit, including any personal information the commenter provides, to www.regulations.gov, as described in the system of records notice (DOT/ALL-14 FDMS), which can be reviewed at www.dot.gov/privacy.

• Docket: For access to the docket to read background documents or comments received, go to http://www.regulations.gov. Follow the online instructions for accessing the dockets. Alternatively, you may review the documents in person at the street address listed above.

FOR FURTHER INFORMATION CONTACT: Nathan Schoenkin by phone at 202-740-1978 or via email at nathan.schoenkin@dot.gov.

SUPPLEMENTARY INFORMATION:

I. Background

The mission of PHMSA is to protect people and the environment by advancing the safe transportation of energy products and other hazardous materials that are essential to our daily lives. PHMSA oversees the transportation of hazardous materials, including energy products, through all modes of the transportation industry—and is focused on the Biden-Harris Administration's whole-of-government approach to mitigating climate change. PHMSA collaborates with stakeholders from the public, academia, interagency, international partners, and pipeline industry that share PHMSA's goal of advancing knowledge and technology in the pursuit of improved pipeline safety. The PHMSA's research agenda will adapt to address existing and future initiatives such as the market shift to more climate friendly commodities.

Due to the importance of energy products and other hazardous materials to our economy and standard of living, it is essential that research projects promote safety, protection of the environment, reliability, and ensure our transportation system's efficient and reliable performance. To this end, PHMSA hopes to discuss and receive public feedback on repair, rehabilitation, or replacement of leak prone, legacy cast iron pipelines; integrity of underground fuel storage including hydrogen; utilization of inspection tools and network components on hydrogen pipeline facilities; integrity management of natural gas and hazardous liquids pipeline to include carbon dioxide lines; and methane mitigation from pipeline infrastructure.

II. Public Forum Details and Agenda

The virtual meeting and forum will take place November 30, 2021, through December 2, 2021. The first day of the virtual public meeting will include panel discussions in a general session between government, industry, research consortiums, and environmental advocacy stakeholders on emerging fuels and pipeline safety R&D. Each panel discussion will include an opportunity for questions and answers.

The second day will be the virtual public forum which will consist of smaller workgroups that members of the public will have an opportunity to sign up for in advance. The workgroups will explore specific research gaps and topics, including the transportation of hydrogen by pipelines, and develop relevant research topics to address the gaps. The third day of the virtual public meeting will be a report from the workgroups as well as a public comment period.

III. Public Participation

The virtual public meeting and forum will be open to the public. Members of the public who wish to attend must register on the meeting website and include their names and organization affiliation. PHMSA is committed to providing all participants with equal access to these meetings. If you need disability accommodations, please contact Nathan Schoenkin by phone at 202-740-1978 or via email at nathan.schoenkin@dot.gov.

PHMSA is not always able to publish a notice in the Federal Register quickly enough to provide timely notification regarding last minute changes that impact a previously announced meeting. Therefore, individuals should check the meeting website listed in the ADDRESSES section of this notice or contact Nathan Schoenkin by phone at 202-740-1978 or via email at nathan.schoenkin@dot.gov regarding any possible changes.

PHMSA invites public participation and public comment on the topics addressed in this public meeting and forum. Please review the ADDRESSES section of this notice for information on how to submit written comments.

Issued in Washington, DC, on October 15, 2021, under authority delegated in 49 CFR 1.97.
Alan K. Mayberry,
Associate Administrator for Pipeline Safety.

[FR Doc. 2021-22913 Filed 10-20-21; 8:45 am]

BILLING CODE 4910-60-P